ENVIRONMENTAL PROTECTION AGENCY

40 CFR Parts 52 and 70

[EPA-R07-OAR-2016-0571; FRL-9953-76-Region 7]

Approval of Missouri's Air Quality Implementation Plans, Operating Permits Program, and 112(l) Plan; Construction Permits Required

AGENCY: Environmental Protection Agency (EPA).

ACTION: Proposed rule.

SUMMARY: Environmental Protection Agency (EPA) is proposing to approve revisions to the State Implementation Plan (SIP), the Operating Permit Program, and the 112(l) plan submitted on April 6, 2016, by the State of Missouri. In the “Rules and Regulations” section of this Federal Register, we are approving the State's SIP and Operating Permit Program revisions as a direct final rule without a prior proposed rule. If we receive no adverse comment, we will not take further action on this proposed rule. The submission from Missouri revises fees for permitting services provided by the air quality program, including construction permit applications and operating permit applications. Missouri also removed the basic operating permit requirement for incinerators with emissions less than the de minimis levels in Missouri's “Operating Permits” rule. While EPA has never approved the basic operating permit program into Missouri's SIP or Missouri's Operating Permits Program, one statement on incinerators in the approved SIP and Operating Permits Program is removed by the submission. This statement applied Missouri's “Operating Permits” rule to all incinerators within the State. Any permittees with incinerators already required to have either Intermediate State Operating Permits or part 70 Operating Permits will still have the same permitting requirements. This revision does not exempt any incinerators from appropriate permitting. Likewise, any future permittees with incinerators under the former version of the SIP and Operating Permits Program would have required either an Intermediate State Operating Permits or a part 70 Operating Permits will still have the same permitting requirement under the revised SIP and Operating Permits Program. Finally the submission from Missouri makes non-substantive style changes.

DATES: Written comments must be received by November 10, 2016.

ADDRESSES: Submit your comments, identified by Docket ID No. EPA-R07-OAR-2016-0571, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Jed D. Wolkins, Environmental Protection Agency, Air Planning and Development Branch, 11201 Renner Boulevard, Lenexa, Kansas 66219 at 913-551-7588, or by email at wolkins.jed@epa.gov.

SUPPLEMENTARY INFORMATION: This document proposes to take action on the SIP and Operating Permit Program revisions submitted by the state of Missouri for 10 CSR 10-6.060, “Construction Permits Required”, and 10 CSR-6.065, “Operating Permits”. We have published a direct final rule approving the State's SIP and Operating Permit Program revisions in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects

40 CFR Part 52

Environmental protection, Air pollution control, Carbon monoxide, Incorporation by reference, Intergovernmental relations, Nitrogen dioxide, Ozone, Particulate matter, Reporting and recordkeeping requirements, Sulfur oxides, Volatile organic compounds.

40 CFR Part 70

Administrative practice and procedure, Air pollution control, Intergovernmental relations, Operating permits, Reporting and recordkeeping requirements.

Dated: September 27, 2016.
Mike Brincks,
Acting Regional Administrator, Region 7.

[FR Doc. 2016-24379 Filed 10-7-16; 8:45 am]

BILLING CODE 6560-50-P